ENVIRONMENTAL PROTECTION AGENCY

40 CFR Part 141

[EPA-HQ-OW-2002-0043; FRL-8012-1]

RIN 2040-AD38

National Primary Drinking Water Regulations: Stage 2 Disinfectants and Disinfection Byproducts Rule

Correction

In rule document 06-3 beginning on page 388 in the issue of Wednesday, January 4, 2006, make the following corrections:

§141.131 [Corrected]

On page 481, in § 141.31(c)(1) the table is corrected to read as set forth below:

Methodology | SM (19th or 20th ed) | SM Online ² | ASTM method | EPA method | Residual measured ¹: Free Cl2 | Residual measured ¹: Combined Cl2 | Residual measured ¹: Total Cl2 | Residual measured ¹: ClO2
Amperometric Titration | 4500-Cl D | 4500-Cl D-00 | D 1253-86 (96), 03 |  | X | X | X |
Low Level Amperometric Titration | 4500-Cl E | 4500-Cl E-00 |  |  |  |  | X
DPD Ferrous Titrimetric | 4500-Cl F | 4500-Cl F-00 |  |  | X | X | X |
DPD Colorimetric | 4500-Cl G | 4500-Cl G-00 |  |  | X | X | X |
Syringaldazine (FACTS) | 4500-Cl H | 4500-Cl H-00 |  |  | X |  |  |
Iodometric Electrode | 4500-Cl I | 4500-Cl I-00 |  |  |  |  | X |
DPD | 4500-ClO2 D |  |  |  |  |  |  | X
Amperometric Method II | 4500-ClO2 E | 4500-ClO2 E-00 |  |  |  |  |  | X
Lissamine Green Spectrophotometric |  |  |  | 327.0 Rev 1.1 |  |  |  | X
¹ X indicates method is approved for measuring specified disinfectant residual. Free chlorine or total chlorine may be measured for demonstrating compliance with the chlorine MRDL and combined chlorine, or total chlorine may be measured for demonstrating compliance with the chloramine MRDL.
² The Standard Methods Online version that is approved is indicated by the last two digits in the method number which is the year of approval by the Standard Method Committee. Standard Methods Online are available at http://www.standardmethods.org.

[FR Doc. C6-3 Filed 6-28-06; 8:45 am]

BILLING CODE 1505-01-D